DEPARTMENT OF HOMELAND SECURITY

Coast Guard

33 CFR Chapter I

46 CFR Chapters I and III

49 CFR Chapter IV

[Docket No. USCG-2017-0480]

Evaluation of Existing Coast Guard Regulations, Guidance Documents, Interpretative Documents, and Collections of Information

AGENCY: Coast Guard, DHS.

ACTION: Request for comments.

SUMMARY: We are seeking comments on Coast Guard regulations, guidance documents, and interpretative documents that you believe should be repealed, replaced, or modified. Also, we welcome your comments on our approved collections of information, regardless of whether the collection is associated with a regulation. We are taking this action in response to Executive Orders 13771, Reducing Regulation and Controlling Regulatory Costs; 13777, Enforcing the Regulatory Reform Agenda; and 13783, Promoting Energy Independence and Economic Growth. We plan to use your comments to assist us in our work with the Department of Homeland Security's Regulatory Reform Task Force.

DATES: Comments and related material must be received by the Coast Guard on or before July 10, 2017.

ADDRESSES: You may submit comments identified by docket number USCG-2017-0480 using the Federal eRulemaking Portal at http://www.regulations.gov. See the “Public Participation and Request for Comments” portion of the SUPPLEMENTARY INFORMATION section for further instructions on submitting comments.

FOR FURTHER INFORMATION CONTACT: For information about this document call or email Mr. Adam Sydnor, Coast Guard; telephone 202-372-1490, email Adam.B.Sydnor@uscg.mil.

SUPPLEMENTARY INFORMATION: On January 30, 2017, President Trump issued Executive Order 13771, Reducing Regulation and Controlling Regulatory Costs. Under that Executive Order, for every one new regulation issued, at least two prior regulations must be identified for elimination, and the cost of planned regulations must be prudently managed and controlled through a budgeting process. On February 24, 2017, the President issued Executive Order 13777, Enforcing the Regulatory Reform Agenda. That Executive Order directs agencies to take specific steps to identify and alleviate unnecessary regulatory burdens placed on the American people. On March 28, 2017, the President issued Executive Order 13783, Promoting Energy Independence and Economic Growth. Executive Order 13783 promotes the clean and safe development of our Nation's vast energy resources, while at the same time avoiding agency actions that unnecessarily encumber energy production.

We are seeking comments on Coast Guard regulations, guidance documents, interpretative documents, and collections of information that you believe should be removed or modified to alleviate unnecessary burdens because we believe your comments will assist the Coast Guard in its role within the Department of Homeland Security (DHS) in responding to these Executive Orders. The Coast Guard is looking for new information and new economic data to support any proposed changes.

Regulatory Reform Task Force

Executive Order 13777 directs agencies to designate a Regulatory Reform Officer and to establish a Regulatory Reform Task Force (Task Force). The Deputy Secretary of DHS is the agency Regulatory Reform Officer, and the Coast Guard's Senior Accountable Regulatory Official, who is our Director of Commercial Regulations and Standards, is a member of the DHS Task Force.

One of the duties of the Task Force is to evaluate existing regulations and make recommendations to the agency head regarding their repeal, replacement, or modification. Executive Order 13777 further directs that each Task Force attempt to identify regulations that:

• Eliminate jobs, or inhibit job creation;

• Are outdated, unnecessary, or ineffective;

• Impose costs that exceed benefits;

• Create a serious inconsistency or otherwise interfere with regulatory reform initiatives and policies;

• Are inconsistent with the requirements of section 515 of the Treasury and General Government Appropriations Act, 2001 (44 U.S.C. 3516 note), or the guidance issued pursuant to that provision, in particular those regulations that rely in whole or in part on data, information, or methods that are not publicly available or that are insufficiently transparent to meet the standard of reproducibility; or

• Derive from or implement Executive Orders or other Presidential directives that have been subsequently rescinded or substantially modified.

Section 3(e) of the Executive Order calls on the Task Force to “seek input and other assistance, as permitted by law, from entities significantly affected by Federal regulations, including State, local, and tribal governments, small businesses, consumers, non-governmental organizations, and trade associations” on regulations that meet some or all of the criteria above.

Also, when implementing the regulatory offsets required by Executive Order 13771, which may include guidance documents, interpretative documents, and collections of information, in addition to regulations in the Code of Federal Regulations, Executive Order 13777 states that each agency head should prioritize, to the extent permitted by law, those regulations that the agency's Regulatory Reform Task Force has identified as being outdated, unnecessary, or ineffective.

Executive Order 13783 calls for agencies to submit reports to the Vice President, the Office of Management and Budget, and others in the Executive Office of the President, with “specific recommendations that, to the extent permitted by law, could alleviate or eliminate aspects of agency actions that burden domestic energy production.” These agency actions include all existing regulations, orders, guidance documents, policies, and any other similar agency actions that potentially burden the development or use of domestically produced energy resources, with particular attention to oil, natural gas, coal, and nuclear energy resources.

We ask that you keep these specific elements we have identified from these three Executive Orders in mind as you consider Coast Guard regulations or collections of information for removal or modification to alleviate unnecessary burdens.

Location of Coast Guard Regulations

Coast Guard regulations fall within three general categories in the Code of Federal Regulations—navigation and navigable waters, shipping, and transportation. Here are the three corresponding titles in the CFR (and the parts in those titles) where you will find our regulations:

• 33 CFR Chapter I (parts 1 through 199),

• 46 CFR Chapters I (parts 1 through 199) and III (parts 400 through 499), and

• 49 CFR Chapter IV (parts 400 through 499).

You may view these regulations on www.fdsys.gov or www.ecfr.gov.

In the CFR you will find bracketed references to rules published in the Federal Register (for example, xx FR xxxx, date) that provide our reasoning for establishing the regulations in that CFR part or section, and our estimates of the costs and benefits of those regulations. Rules published since 1990 will be available in the Federal Register library on www.fdsys.gov.

Our rulemaking documents include a number that denotes our online docket. On www.regulations.gov, using that docket number, you should be able to find supporting and related material we provided for that rule, including a cost-benefit analysis. In our dockets, you will also find notices of proposed rulemaking and submissions from interested persons who commented on our initial proposal for the regulations that appear in the final rule. The preamble of the final rule contains our responses to those comments.

Location of Coast Guard Guidance Documents and Interpretative Documents

Coast Guard guidance documents and interpretative rules may be found in a number of online locations. You may find many of these documents on the Coast Guard's homeport Web page, http://homeport.uscg.mil. In addition, we sometimes publish a notice in the Federal Register announcing the release of a guidance document or interpretative rule and the document may be found in the docket for that notice in addition to a Coast Guard Web page. You can find these notices using the search function on www.fdsys.gov or the Federal Register browse function if you know the date the notice was published. Some of these documents take the form of a Navigation and Vessel Inspection Circular, frequently abbreviated as “NVIC,” and the Federal Register notices will often have an action line of “Notice of policy” or “Notice of availability.”

Location of Approved Collections of Information

If a regulation has a collection of information associated with it, you should find a reference to that collection of information in the rulemaking documents (normally a notice of proposed rulemaking and a final rule) we published to establish the regulation. But whether a collection is associated with a regulation or not, you will be able to find our approved collections of information in www.reginfo.gov. Our collections have approval numbers in the 1625-series and are listed with other Department of Homeland Security collections.

Public Participation and Comments

If you submit a comment, please include the docket number for this notice requesting comments (USCG-2017-0480), indicate the specific regulation, guidance document, interpretative document, or collection of information you are commenting on, and provide a reason for each suggestion or recommendation. Please make your comments as specific as possible, and include any supporting data or other information, such as cost information, you may have. Also, if you are commenting on a regulation, please provide a Federal Register (FR) or Code of Federal Regulations (CFR) citation when referencing a specific regulation, and provide specific suggestions regarding repeal, replacement or modification.

We encourage you to submit comments through the Federal eRulemaking Portal at http://www.regulations.gov. If your material cannot be submitted using http://www.regulations.gov, contact the person in the FOR FURTHER INFORMATION CONTACT section of this document for alternate instructions. Copies of Executive Orders 13771, 13777, and 13783, and all public comments are available in our online docket at http://www.regulations.gov.

We accept anonymous comments. All comments received will be posted without change to http://www.regulations.gov and will include any personal information you have provided. For more about privacy and the docket, visit http://www.regulations.gov/privacyNotice.

Although the Coast Guard will not respond to individual comments, we value your comments and will give careful consideration to them.

Dated: June 1, 2017.
J.G. Lantz,
Senior Accountable Regulatory Official, Director of Commercial Regulations and Standards.

[FR Doc. 2017-11930 Filed 6-7-17; 8:45 am]

BILLING CODE 9110-04-P